DEPARTMENT OF THE TREASURY

Submission for OMB Review; Comment Request

June 23, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 31, 2000 to be assured of consideration.

BUREAU OF ALCOHOL, TOBACCO AND FIREARMS (BATF)

OMB Number: 1512-0030.

Form Number: ATF F 5300.11.

Type of Review: Extension.

Title: Annual Firearms Manufacturing and Exportation Report.

Description: ATF collects this data for the purpose of: ATF law enforcement witness qualifications; Congressional investigations in aid of legislation; disclosure to interested members in accordance with a court order; furnishing info to other Federal agencies; ATF inspections of manufacturers ensuring that the requirements of the National Firearms Act (NFA) are met.

Respondents: Business of other for-profit, Federal Government, State, Local or Tribal Government.

Estimated Number of Respondents/Recordkeepers: 1,500.

Estimated Burden Hours Per Respondent/Recordkeeper: 45 minutes.

Frequency of Response: On occasion.

Estimated Total Reporting Burden: 1,125 hours.

OMB Number: 1512-0073.

Form Number: ATF F 5150.19.

Type of Review: Extension.

Title: Formula and/or Process for Articles Made with Specially Denatured Spirits.

Description: ATF F 5150.19 is completed by persons who use specially denatured spirits in the manufacture of certain articles. ATF uses the information provided on the form to insure the manufacturing formulas and processes conform to the requirements of 26 U.S.C. 5273.

Respondents: Business or other for-profit.

Estimated Number of Respondents: 2,683.

Estimated Burden Hours Per Respondent: 54 minutes.

Frequency of Response: On occasion.

Estimated Total Reporting Burden: 2,415 hours.

OMB Number: 1512-0075.

Form Number: ATF F 5150.18.

Type of Review: Extension.

Title: Users' Report of Denatured Spirits.

Description: The information on ATF F 5150.18 is used to pinpoint unusual activities in the use of specially denatured spirits. The form shows a summary of activities at permit premises. ATF examines and verifies certain entries on these reports to identify unusual activities, errors and omissions.

Respondents: Business or other for-profit.

Estimated Number of Respondents: 2,765.

Estimated Burden Hours Per Respondent: 18 minutes.

Frequency of Response: Annually.

Estimated Total Reporting Burden: 830 hours.

OMB Number: 1512-0204.

Form Number: ATF F 5110.38.

Type of Review: Extension.

Title: Formula for Distilled Spirits under the Federal Alcohol Administration Act (Supplemental).

Description: ATF F 5110.38 is used to determine the classification of distilled spirits for labeling and for consumer protection. The form describes the person filing, type of product to be made, and restrictions to the labeling and manufacture. The form is used by ATF to ensure that a product is made and labeled properly and to audit distilled spirits operations.

Respondents: Business or other for-profit.

Estimated Number of Respondents: 200.

Estimated Burden Hours Per Respondent: 1 hour.

Frequency of Response: On occasion.

Estimated Total Reporting Burden: 4,000 hours.

Clearance Officer: Frank Bowers (202) 927-8930, Bureau of Alcohol, Tobacco and Firearms, Room 3200, 650 Massachusetts Avenue, NW., Washington, DC 20226.

OMB Reviewer: Alexander T. Hunt (202) 395-7860, Office of Management and Budget, Room 10202, New Executive Office Building, Washington, DC 20503.

Mary A. Able,
Departmental Reports Management Officer.

[FR Doc. 00-16412 Filed 6-28-00; 8:45 am]

BILLING CODE 4810-31-P